DEPARTMENT OF LABOR

Occupational Safety and Health Administration

29 CFR Part 1910

[Docket No. H-044]

RIN 1218-AA84

Occupational Exposure to 2-Methoxyethanol, 2-Ethoxyethanol and Their Acetates (Glycol Ethers)

AGENCY: Occupational Safety and Health Administration, Labor.

ACTION: Reopening of the rulemaking record on a proposed rule.

SUMMARY: The Occupational Safety and Health Administration (OSHA) is re-opening the record in the rulemaking on Occupational Exposure to 2-Methoxyethanol, 2-Ethoxyethanol, and their Acetates (Glycol Ethers) to solicit information on the extent to which the four glycol ethers (2-ME, 2-EE, 2-MEA and 2-EEA) are currently used in the workplace. The Agency is also seeking information on substitutes for these four glycol ethers that employers may be using, including information on patterns of use, levels of employee exposure to the substitutes, and their degree of toxicity.

DATES: Comments must be submitted by the following dates:

Hard Copy: Your comments must be submitted (postmarked or sent) by November 6, 2002.

Facsimile and Electronic Transmission: Your comments must be sent by November 6, 2002. (Please see the Supplementary Information provided below for additional information on submitting comments.)

ADDRESSES: Regular Mail, Express Delivery, Hand-delivery, and Messenger Service: You must submit three copies of your comments and attachments to the OSHA Docket Office, Docket No. H-044, Room N-2625, U.S. Department of Labor, 200 Constitution Avenue, NW., Washington, DC 20210; telephone (202) 693-2350. OSHA Docket Office and Department of Labor hours of operation are 8:15 a.m. to 4:45 p.m., EST.

Facsimile: If your comments, including any attachments, are 10 pages or fewer, you may fax them to the OSHA Docket Office at (202) 693-1648. You must include the docket number of this document, Docket No. H-044, in your comments.

Electronic: You may submit comments through the Internet at http://ecomments.osha.gov.

FOR FURTHER INFORMATION CONTACT: For general information and press inquiries, contact the Office of Public Affairs, N-3647, 200 Constitution Avenue, NW., Washington, DC 20210. Telephone: (202) 693-1890. For technical inquiries, contact Ms. Amanda Edens, Directorate of Health Standards Programs, OSHA, N-3718, 200 Constitution Avenue, NW., Washington, DC 20210. Telephone 202-693-2270. For additional copies of this Federal Register document, contact OSHA, Office of Publications, U.S. Department of Labor, Room N-3101, 200 Constitution Avenue, NW., Washington, DC 20210; telephone (202) 693-1888. Electronic copies of this Federal Register document, as well as news releases and other relevant documents, are available at OSHA's web page on the Internet at www.osha.gov.

SUPPLEMENTARY INFORMATION:

Submission of Comments on This Document and Internet Access to Comments and Submissions

You may submit comments in response to this document by (1) hard copy, or (2) FAX transmission (facsimile), or (3) electronically through the OSHA Webpage. Please note that you cannot attach materials, such as studies or journal articles, to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of materials by express delivery, hand delivery and messenger service.

All comments and submissions will be available for inspection and copying at the OSHA Docket Office at the above address. Comment and submissions posted on OSHA's Web site are available at www.osha.gov. OSHA cautions you about submitting personal information such as social security numbers and birth dates. Contact the OSHA Docket Office at (202) 693-2350 for information about materials not available through the OSHA Web page and for assistance in using the Web page to locate docket submissions.

Background

On March 23, 1993, OSHA proposed to reduce permissible exposure limits for four ethylene glycol ethers (2-Methoxyethanol (2-ME), 2-Ethoxyethanol (2-EE), and their acetates (2-MEA, 2-EEA)) to protect approximately 46,000 workers from significant risks of adverse reproductive and developmental health effects (58 FR 15526). The Agency held informal public hearings on the proposal, and the record was certified in March 1994.

Information submitted in response to the proposal, at the hearings, and in post-hearing comments indicates that the domestic production of the four ethylene glycol ethers was on the decline and that their use in several key industry sectors either may have been eliminated or may have been in the process of being phased out (Exs. 11-18, 19B, 28, 29A, 48, 53, 58; Ex. 302-X, pp. 596-600). By the close of the record, there was testimony that 2-MEA production had been phased out completely. There also had been a significant decline in production of the remaining glycol ethers since 1987. The vast majority of the 2-EE produced in 1991 was used as a chemical intermediate to produce 2-EEA, of which nearly 75% was exported; 2-EEA production for paints and coatings had been reduced by almost three-quarters since 1987; and most of 2-ME production was planned to be phased out by 1996 (Exs. 29A, 58). The evidence in the record indicated that less than one-half of the 11 major use categories that had been identified in OSHA's preliminary economic analysis remained (Ex. 58; Ex. 302-X, pp. 596-600).

Evidence also was submitted that the four ethylene glycol ethers were being shifted out of several critical uses. Evidence indicated that these glycol ethers were no longer being used in the auto refinishing industry (Exs. 24, 53), which accounted for about 86 percent of the affected establishments and 57 percent of all exposed workers (58 FR 15583). The targeted glycol ethers also had been discontinued in construction paints and were being replaced in surface coatings, printing inks, and in the semiconductor industry (Exs. 28, 48,11-18, 19-B). (More recent public information confirms this downward trend in the production and use of these glycol ethers. Environmental Protection Agency Toxic Release Inventory, http://www.epa.gov/opptintr/tri.)

OSHA has decided to re-open the rulemaking record, which is now 9½ years old, to seek up-to-date information about the extent to which 2-ME, 2-EE, 2-MEA and 2-EEA are currently used. OSHA requests comments and data from interested persons about whether the four glycol ethers are still in use, including information about the level of production, the industries and processes in which they are still used, and employee exposure levels.

OSHA also requests information on substitutes for these glycol ethers that are currently used, including information on the volume of usage, levels of employee exposure to the substitutes, and toxicity of the substitutes. As noted in the proposal, the four glycol ethers have been shown to be potent reproductive and developmental toxins. The Agency is interested in information related to the types of risks that any substitutes may pose to workers. OSHA will use the information gathered during this re-opening to make determinations about how to proceed with the Glycol Ethers rulemaking.

Authority and Signature

This document was prepared under the direction of John L. Henshaw, Assistant Secretary of Labor for Occupational Safety and Health, U.S. Department of Labor. It is issued pursuant to section 6(b) of the Occupational Safety and Health Act of 1970 (84 Stat. 1594, 29 U.S.C. 655), 29 CFR 1911.18, and Secretary's Order 3-2000.

Signed at Washington, DC, this 2nd day of August, 2002.
John L. Henshaw,
Assistant Secretary of Labor.

[FR Doc. 02-20001 Filed 8-7-02; 8:45 am]

BILLING CODE 4510-26-P